DEPARTMENT OF STATE

[Delegation of Authority No. 459]

Delegation of Authority to the Director of the Office of U.S. Foreign Assistance Resources Under Section 7076(b)(3) of the Department of State, Foreign Operations, and Related Programs Appropriations Act, 2018

By virtue of the authority vested in the Secretary of State, including section 1 of the State Department Basic Authorities Act (22 U.S.C. 2651a) and section 7076(b)(3) of the Department of State, Foreign Operations, and Related Programs Appropriations Act, 2018 (Division K, Pub. L. 115-141) (FY 2018 SFOAA), I hereby delegate to the Director of the Office of U.S. Foreign Assistance Resources, to the extent authorized by law, the authority to determine whether the obligation of up to 10 percent of the funds contained in a spend plan required by section 7076(b) of the FY 2018 SFOAA is necessary to avoid significant programmatic disruption.

Notwithstanding this delegation of authority, any function or authority delegated herein may be exercised by the Secretary or the Deputy Secretary. Any reference in this delegation of authority to a statute shall be deemed to be a reference to such statute as amended from time to time and shall be deemed to apply to any provision of law that is the same or substantially the same as such statute.

This delegation of authority shall be published in the Federal Register.

Dated: September 5, 2018.
Michael R. Pompeo,
Secretary of State, Department of State.

[FR Doc. 2018-20062 Filed 9-13-18; 8:45 am]

BILLING CODE 4710-10-P